DEPARTMENT OF HOUSING AND URBAN DEVELOPMENT

[Docket No. FR-4772-N-01]

Notice of Public Interest (NOPI) for the Partnership for Advancing Technology in Housing (PATH)

AGENCY: Office of the Assistant Secretary for Policy Development and Research, HUD.

ACTION: Notice of public interest.

SUMMARY: The purpose of this notice is to inform potential applicants that the Office of Policy Development and Research (PD&R) of the Department of Housing and Urban Development is interested in receiving ideas for cooperative agreements for research and activities in support of the Partnership for Advancing Technology in Housing (PATH) program. PATH is working to foster the development and use of advanced housing technologies, through partnerships between U.S. businesses and the federal government. These efforts, which improve the quality, affordability, durability, energy efficiency, and environmental performance of a home, help everyone—industry, consumers, and the environment. PATH encourages developing and adopting innovative housing components and systems, designs, and production methods as well as reducing the amount of time needed to move technologies to the market place.

ADDRESSES: Interested persons are invited to submit Summary Proposal Letters to the Department of Housing and Urban Development, Office of Policy Development and Research, 451 Seventh Street, SW., Room 8230, Washington, DC 20410, ATTENTION: Unsolicited Proposal (PATH)

FOR FURTHER INFORMATION CONTACT: Please submit any technical questions to: Mr. Dana Bres, P.E., Affordable Housing Research and Technology Division, Office of Policy Development and Research, Department of Housing and Urban Development, 451 Seventh Street, SW., Washington, DC 20410, telephone (202) 708-4370, ext. 5919, e-mail dana_b._bres@hud.gov. Administrative questions should be directed to Mr. Patrick Tewey, Director, Budget, Contracts, and Program Control Division, Office of Policy Development and Research, Department of Housing and Urban Development, 451 Seventh Street, SW., Washington, DC 20410, telephone (202) 708-1796, ext. 4098, email patrick_j._tewey@hud.gov. (These numbers are not toll-free.) For hearing- and speech-impaired persons, these numbers may be accessed via TTY (text telephone) by calling the Federal Information Relay Service at 1-800-877-8339.

SUPPLEMENTARY INFORMATION

I. Background

The PATH program is led by PD&R within the Department of Housing and Urban Development (http://www.pathnet.org). The PATH program is seeking interest in cost-shared, industry-led research projects and other projects in support of the PATH program goals.

A. The PATH program goals are:

• Develop new housing technologies (including processes)—this includes conducting basic and applied research, development of housing technology, development of evaluation measures for housing technology, evaluation of technologies on the marketplace, and long term analysis of housing technology;

• Disseminate new and existing technological information—this includes supporting regulatory acceptance of technologies, dissemination of information on promising but underutilized technologies, demonstrations of underutilized technologies, and provision of a clearinghouse for information on housing technology; and

• Study and establish mechanisms for sustained housing technology development—this includes forecasting of research needs, identification of research, and strategic planning and operations.

To focus program efforts, PATH sponsored roadmapping sessions to identify the advances critical to furthering the use of new technologies in the residential homebuilding industry. The initial roadmapping sessions were focused on: Reducing Energy Use In Existing Buildings; Information Technology to Accelerate and Streamline the Homebuilding Process; Advanced Panelized Systems; and, Whole House Building Process Redesign. Information on these roadmaps is available on the ToolBase Web sites at http://www.toolbase.org/roadmaps. PATH is sponsoring a manufactured housing roadmapping process at this time. In addition, the 2001 National Academy of Sciences report on the PATH program is available at: http://www.nap.edu/catalog/10066.html.

B. PD&R is interested in research and dissemination projects which:

• Conduct cooperative information gathering and dissemination in the U.S. residential construction industry. The work is targeted at improving the quality of and access to advanced technological information for the U.S. residential construction industry in a non-commercial manner by identifying the most reliable sources of technical information, assessing their accuracy and bias, and providing this information in an accessible and timely manner. (highest preference)

• Specifically implement the roadmaps (including manufactured housing) through research or demonstration projects that address PATH objectives. (highest preference)

• Address the subjects of roadmaps but not specific activities identified in roadmaps. (lesser preference)

• Address all other activities that support PATH objectives as defined above. (lowest preference)

Housing technology development and research efforts identified should be related to the final stages of the Research and Development life cycle, with results that can be implemented into a new or refined product within 18 to 36 months.

C. The funding will vary as a result of available funds and other program requirements. In the past several years, an average of six cooperative agreements have been made each year with most awards in the $100,000 to $300,000 range.

II. Eligibility

PATH cooperative efforts are open for participation by all (for-profit, not-for-profit, or non-profit) housing industry or industry related organizations (or teams of organizations). PD&R encourages small businesses, minority owned firms, HUB-Zone firms, and other similar organizations to participate in this program.

Unsolicited proposals funded under this program require a minimum 25 percent match.

III. Summary Proposal Letter Submission

In order to facilitate PD&R review and to minimize preparation time and costs for the submitter, a full-fledged proposal should not be sent to PD&R initially. Instead, two copies of a brief (up to three pages) Summary Proposal Letter should be submitted. The letter should contain the following:

• The name, address, and classification (academic, private for-profit, private non-profit, governmental, etc.) of the sponsoring organization or individual;

• A brief one or two-line title;

• The specific objective of the research;

• The problems/issues being addressed;

• The relationship of the research to the PATH program goals and priorities;

• Methodology to be employed in conducting the research;

• Products to be prepared (reports, etc.) and the specific audience(s) to whom these products are directed;

• If the proposed project involves research using human subjects (other than voluntary surveys or public observation) and there is any potential for physical, social, psychological, or financial harm to the subjects, a certification must be included that an Independent Review Board has approved the research design. Provide a description of procedures and membership of the Independent Review Board and show that it conforms to or has been registered under 24 CFR part 60;

• The approximate duration of the research in calendar months;

• An estimate of the staff months of professional services required, the total project cost and the percent to be provided by the offeror (cost sharing is required, other federal funds are not eligible for cost sharing);

• Brief statement justifying how the offeror is the unique source from which the work can be obtained or, if the content and nature of the proposal is the private, sole possession of the offeror, is of direct and immediate value to the government, and cannot be obtained from alternative, nonexclusive sources.

• The name, title, and telephone number of the project manager and each senior researcher; and

• A separate one-page resume for each person named in the Summary Proposal Letter that concisely outlines his or her qualifications for performing the research and commitment to the project.

Types of projects that are not eligible for funding include:

1. Proposals having little or no research demonstration content.

2. Work not directly related to the PATH program's role and mission.

3. Proposals for operating funds, working capital, plants, information technology, or other investment.

4. Proposals that solely or principally relate to or benefit a particular individual, local group, or community (i.e., proposals that do not have a primary expectation of national application or replication of results).

5. Demonstration proposals that would require major statutory changes in order for the results to be applied.

6. Proposals for support of the development of consumer, business, or proprietary products, systems, or concepts that are later to be offered for sale at a profit. (In special instances, unmet needs of high national priority—e.g., energy-conservation systems for housing—may be funded, but only on a solicited, competitive, public Request for Proposals basis).

7. Proposals that duplicate or overlap current or previous work.

8. Awards of cooperative agreements may not be made in response to an Unsolicited Proposal unless the offeror is the unique source from which the work may be obtained (not just a well-qualified, or even best-qualified, source), or the content and nature of the proposal is the private, sole possession of the offeror, is of direct and immediate value to the government, and cannot be obtained from alternative, nonexclusive sources. Even if HUD is interested in funding the proposal, a market search may be conducted to determine whether there are capable, alternative sources or means by which the government may obtain the proposed product or services (care being taken not to disclose the elements of the proposal asserted to be unique).

9. Proposals that require a disproportionate share of HUD's research funds.

10. Proposals that do not meet the 25 percent cost sharing requirement.

11. Proposals that are of generally the same subject matter as a current PD&R competitive Request for Proposals (RFP) or an invitation for assistance agreement (grant or cooperative agreement) applications. The period of ineligibility will generally be from the date of the first solicitation notice in FedBizOpps or the Federal Register until ninety (90) calendar days after competitive selection and award.

Summary Proposal Letters should be addressed to: Department of Housing and Urban Development, Office of Policy Development and Research, 451 7th Street, SW, Room 8230, Washington, DC 20410, ATTENTION: Unsolicited Proposal (PATH).

IV. Policy Development and Research Review

Upon receipt the Summary Proposal Letter will be screened, using the criteria above to determine eligibility for further review. Government-wide regulations may require a market search for alternative sources. The offeror will be informed by letter of the results of this initial screening.

Those Summary Proposal Letters that pass the initial screening will be given a proposal number and assigned to the appropriate reviewer. If interest exists, the offeror may be invited to prepare a detailed proposal, the requirements of which will be spelled out in the decision letter. Receipt of an invitation from PD&R to submit a more detailed proposal does not imply that an award of a cooperative agreement for the proposed work is expected. The invitation is only an indication that the proposal is of sufficient merit to have passed preliminary review and to justify preparation by the offeror of a detailed proposal.

Dated: December 3, 2002.
Harold L. Bunce,
Deputy Assistant Secretary for Economic Affairs.

[FR Doc. 02-31365 Filed 12-11-02; 8:45 am]

BILLING CODE 4210-62-P